ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Illinois, Indiana, Louisiana, South Carolina, and Virginia.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. Illinois' current submission is the State's second submission of material changes. EAC published the first update to Illinois' State plan in the Federal Register on December 22, 2004. 69 FR 76695. EAC has not previously published an update to either the Indiana or Louisiana State plans. South Carolina's current submission is the State's third submission of material changes. EAC published the first update to South Carolina's State plan in the Federal Register on September 30, 2004. 69 FR 58630. EAC published the first update to South Carolina's State plan in the Federal Register on August 25, 2005. 70 FR 50076. Virginia's current submission is the State's second submission of material changes. EAC published the first update to Virginia's State plan in the Federal Register on September 12, 2005. 70 FR 53783.

The submissions from Illinois, Indiana, Louisiana, South Carolina, and Virginia all address material changes in the State budgets; State plan committees of their previously submitted State plans; and in accordance with HAVA section 254(a)(12), provide information on how the States succeeded in carrying out their previous State plans. The current submission from Illinois addresses a material change to its Performance Goals and Measures. The current submission from Indiana addresses a material change to its outreach, training, and education initiatives due to changes in Indiana state law. The submission from Louisiana contains appendices showing changes made to state laws that impact elections, including changes made to deal with the issues faced by displaced voters resulting from Hurricane Katrina in 2005. The submission from South Carolina addresses material changes to the budget based on the amount of funds actually received by the state and not on the authorized amounts. The current submission from Virginia addresses material changes to the State's Performance Goals and Measures.

Upon the expiration of thirty days from September 28, 2006, Illinois, Indiana, Louisiana, South Carolina, and Virginia will be eligible to implement the material changes addressed in the plans that are published herein, in accordance with HAVA section 254(a)(11)(C).

EAC notes that the plans published herein have already met the notice and comment requirements of HAVA section 256, as required by HAVA section 254(a)(11)(B). EAC wishes to acknowledge the effort that went into revising these State plans and encourages further public comment, in writing, to the State election officials listed below.

Chief State Election Officials

Illinois

Daniel W. White, Executive Director, State Board of Elections, 1020 S. Spring St, Springfield IL 62704, Phone: 217-782-4141, Fax: 217-524-5574, E-mail: dwhite@elections.state.il.us.

Indiana

Honorable Todd Rokita, Secretary of State, The State House, Room 201, Indianapolis, IN 46204, Phone: 317-232-6531, Fax: 317-233-3283, E-mail: havaadministrator@sos.in.gov.

Louisiana

Honorable Al Ater, Secretary of State, P.O. Box 94125, Baton Rouge, LA 70804-9125, Phone: 225-922-1000, Fax: 225-342-5577, E-mail: mnorton@sos.louisiana.gov.

South Carolina

Ms. Marci Andino, Executive Director, State Election Commission, P.O. Box 5987, Columbia, SC 29250-5987, Phone: 803-734-9060, Fax: 803-734-8366, E-mail: elections@elections.sc.gov.

Virginia

Ms. Jean R. Jensen, Secretary, State Board of Elections, 200 North 9th Street, Suite 101, Richmond, VA 23219, Phone: 804-864-8901, Fax: 804-371-0194, E-mail: HAVA@sbe.virginia.gov.

Thank you for your interest in improving the voting process in America.

Dated: September 15, 2006.
Paul S. DeGregorio,
Chairman, U.S. Election Assistance Commission.

BILLING CODE 6820-KF-P

[FR Doc. 06-7933 Filed 9-27-06; 8:45 am]

BILLING CODE 6820-KF-C